NATIONAL ARCHIVES AND RECORDS ADMINISTRATION

[NARA-2015-036]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules, as required by 44 U.S.C. 3303a(a).

DATES: NARA must receive requests for copies in writing by May 22, 2015. Once NARA completes appraisal of the records, we will send you a copy of the schedule you requested. We usually prepare appraisal memoranda that contain additional information concerning the records covered by a proposed schedule. You may also request these. If you do, we will also provide them once we have completed the appraisal. You have 30 days after we send these requested documents in which to submit comments.

ADDRESSES: You may request a copy of any records schedule identified in this notice by contacting Records Management Services (ACNR) using one of the following means:

Mail: NARA (ACNR); 8601 Adelphi Road; College Park, MD 20740-6001.

Email: request.schedule@nara.gov.

FAX: 301-837-3698.

You must cite the control number, which appears in parentheses after the name of the agency which submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless otherwise specified. An item in a schedule is media-neutral when an agency may apply the disposition instructions to records regardless of the medium in which it has created or maintains the records. Items included in schedules submitted to NARA on or after December 17, 2007, are media-neutral unless the item is limited to a specific medium. (See 36 CFR 1225.12(e).)

No agencies may destroy Federal records without the approval of the Archivist of the United States. The Archivist grants this approval only after a thorough consideration of the records' administrative use by the agency of origin, the rights of the Government and of private people directly affected by the Government's activities, and whether or not the records have historical or other value.

In addition to identifying the Federal agencies and any subdivisions requesting disposition authority, this notice lists the organizational unit(s) accumulating the records or that the schedule has agency-wide applicability (in the case of schedules that cover records that may be accumulated throughout an agency), provides the control number assigned to each schedule, the total number of schedule items, and the number of temporary items (the records proposed for destruction), and includes a brief description of the temporary records. The records schedule itself contains a full description of the records at the file unit level as well as their disposition. If NARA staff has prepared an appraisal memorandum for the schedule, it too includes information about the records. You may request additional information about the disposition process at the addresses above.

Schedules Pending

1. Department of Health and Human Services, Centers for Medicare & Medicaid Services (DAA-0440-2013-0003, 2 items, 2 temporary items). Master files and outputs of an electronic information system used to facilitate drug pricing.

2. Department of Health and Human Services, Centers for Medicare & Medicaid Services (DAA-0440-2014-0001, 2 items, 2 temporary items). Records related to corrective actions for payment errors and vulnerabilities.

3. Department of Health and Human Services, Centers for Medicare & Medicaid Services (DAA-0440-2014-0002, 2 items, 2 temporary items). Master files and outputs of an electronic information system used to track financial relationships of physicians and teaching hospitals.

4. Department of Health and Human Services, Centers for Medicare & Medicaid Services (DAA-0440-2014-0003, 12 items, 10 temporary items). Records related to health care exchange enrollment and verification processes. Proposed for permanent retention are significant reports.

5. Department of Homeland Security, Agency-wide (DAA-0563-2013-0007, 14 items, 13 temporary items). Training records of the department and its component agencies to include course materials, student materials, summary reports, and examinations, excluding training conducted by the Federal Law Enforcement Training Center. Proposed for permanent retention are significant training materials unique to an individual component or program.

6. Department of Justice, Federal Bureau of Investigation (DAA-0065-2014-0002, 8 items, 6 temporary items). Master files of an electronic information system used to disseminate the director's daily briefing including user access permissions, rules of behavior, audit logs, electronic annotations, and convenience copies. Proposed for permanent retention are the daily briefing and electronic annotations of the director and senior staff.

7. Department of Justice, Foreign Claims Settlement Commission (DAA-0299-2015-0001, 1 item, 1 temporary item). Background files for general program reference.

8. Department of Veterans Affairs, Veterans Health Administration (DAA-0015-2015-0002, 8 items, 5 temporary items). Records of a research program including guidance documents and reference files. Proposed for permanent retention are congressional relations files, briefing records, and official determinations of compliance.

9. Commodity Futures Trading Commission, Agency-wide (DAA-0180-2012-0002, 6 items, 4 temporary items). Records include management studies, policy documents, and manuals relating to agency daily functions. Also included are routine program files. Proposed for permanent retention are records of significant policy-making groups and substantive program files.

10. Commodity Futures Trading Commission, Office of Proceedings (DAA-0180-2015-0001, 3 items, 3 temporary items). Records include wage garnishment case files, case file tracking records, and reparations complaint files.

11. Consumer Financial Protection Bureau, Office of Supervision and Examination (DAA-0587-2013-0011, 9 items, 5 temporary items). Records include administrative reports, research files, and training materials. Also included are inputs, outputs, and master files of an electronic information system containing examination records and reports. Proposed for permanent retention are historic examination reports, as well as external reports and policy documents.

12. Consumer Financial Protection Bureau, Division of External Affairs (DAA-0587-2015-0001, 13 items, 7 temporary items). Records include press clippings, constituent mail, routine congressional correspondence, correspondence tracking system records, and news media correspondence. Proposed for permanent retention are significant congressional correspondence, testimonies, and press releases.

13. Court Services and Offenders Supervision Agency for the District of Columbia, Office of Research and Evaluation (DAA-0562-2013-0009, 1 item, 1 temporary item). Master files of an electronic information system used to track employee workload and performance metrics.

14. Marine Mammal Commission, Agency-wide (N1-592-12-1, 46 items, 24 temporary items). Routine administrative records including working papers, general correspondence, background materials, reports, and content on the commission Web site. Proposed for permanent retention are records associated with the executive director, program correspondence files, annual reports, congressional testimony and legislation records, policy files, energy and species program files, fisheries subject files, and master files of an electronic information system containing Federally-funded research and data collection records.

15. Office of Personnel Management, Healthcare and Insurance Program (DAA-0478-2015-0001, 1 item, 1 temporary item). Records relating to health plan benefit reviews including requests for reviews, claim and medical histories files, and final determination letters.

Dated: April 15, 2015.
Paul M. Wester, Jr.
Chief Records Officer for the U.S. Government.

[FR Doc. 2015-09423 Filed 4-21-15; 8:45 am]

BILLING CODE 7515-01-P